DEPARTMENT OF TRANSPORTATION

Surface Transportation Board

[STB Finance Docket No. 35217]

Stillwater Central Railroad, Inc.—Lease and Operation Exemption—Hollis & Eastern Railroad L.L.C.

Stillwater Central Railroad, Inc. (SLWC), a Class III carrier, has filed a verified notice of exemption under 49 CFR 1150.41 to lease and to operate, pursuant to a lease agreement (Agreement) entered into with Hollis & Eastern Railroad L.L.C. (H&E), 14 miles of H&E's rail line between milepost 0.0 at Duke, OK and milepost 14.0 at Altus, OK (the line).

SLWC states that there is no provision or agreement that will limit future interchange with a third-party connecting carrier. See 49 CFR 1150.43(h).

SLWCS certifies that its projected annual revenues as a result of the transaction will not result in SLWC becoming a Class II or Class I rail carrier. However, because its projected annual revenues will exceed $5 million, SLWC also certifies that it has complied with notice requirements of 49 CFR 1150.42(e).

The transaction is scheduled to be consummated on or shortly after March 6, 2010, at least 60 days after SLWC's certification of the notice requirements of section 49 CFR 1150.42(e).

If the verified notice contains false or misleading information, the exemption is void ab initio. Petitions to revoke the exemption under 49 U.S.C. 10502(d) may be filed at any time. The filing of a petition to revoke will not automatically stay the effectiveness of the exemption. Petitions for stay must be filed no later than February 26, 2010 (at least 7 days before the exemption becomes effective).

An original and 10 copies of all pleadings, referring to STB Finance Docket No. 35217, must be filed with the Surface Transportation Board, 395 E Street, SW., Washington, DC 20423-0001. In addition, a copy of each pleading must be served on Karl Morell, of Counsel, Ball Janik LLP, Suite 225, 1455 F Street, NW., Washington, DC 20005.

Board decisions and notices are available on our Web site at http://www.stb.dot.gov.

Decided:
By the Board, Rachel D. Campbell, Director, Office of Proceedings.
Andrea Pope-Matheson,
Clearance Clerk.

[FR Doc. 2010-3022 Filed 2-16-10; 8:45 am]

BILLING CODE 4915-01-P